Title 3—

The President

Executive Order 13313 of July 31, 2003

Delegation of Certain Congressional Reporting Functions

By the authority vested in me as President by the Constitution and the laws of the United States of America, including section 301 of title 3, United States Code, it is hereby ordered as follows:

Section 1. The functions of the President of submitting certain recurring reports to the Congress are assigned as follows:

(a) The Secretary of State shall submit the following reports:

1. Report on Kosovo Peacekeeping, consistent with section 1213 of Public Law 106-398;

2. Report on Bosnia and U.S. Forces in NATO-Led Stabilization Force (SFOR), consistent with section 7(b) of Public Law 105-174 and section 1203(a) of Public Law 105-261;

3. Report on Partnership for Peace Developments, consistent with section 514 of Public Law 103-236 (22 U.S.C. 1928 note);

4. Report on U.S. Military Personnel and U.S. Civilian Contractors in Colombia, consistent with section 3204(f) of Public Law 106-246;

5. Report on Nuclear Nonproliferation, consistent with section 601(a) of Public Law 95-242, as amended by Public Law 103-236 (22 U.S.C. 3281(a));

6. Report on Resolution of the Cyprus Dispute, consistent with section 620C(c) of Public Law 87-195, as amended by Public Law 95-384 (22 U.S.C. 2373(c));

7. Report on Peacekeeping, consistent with section 4 of Public Law 79-264, as amended (22 U.S.C. 287b);

8. Report on Proposed Refugee Admissions, consistent with section 207(d)(1) of Public Law 96-212 (8 U.S.C. 1157(d)(1));

9. Report on Continued Compliance With the Provisions of the Jackson-Vanik Amendment, consistent with sections 402(b) and 409(b) of Public Law 93-618, as amended (19 U.S.C. 2432(b), 2439(b));

10. Report Regarding Conditions in Burma and U.S. Policy Toward Burma, consistent with section 570(d) of Public Law 104-208;

11. Report on Tibet Negotiations, consistent with section 613(b) of Public Law 107-228 (22 U.S.C. 6901 note);

12. Report on Strategy for Meeting Security Needs of Afghanistan, consistent with section 206(c)(2) of Public Law 107-327 (22 U.S.C. 7536(c)(2));

13. Report on Proliferation of Missiles and Essential Components of Nuclear, Biological, Chemical, and Radiological Weapons, consistent with section 1308(a) of Public Law 107-228 (50 U.S.C. 2368(a));

14. Report on the National Emergency With Respect to Proliferation of Weapons of Mass Destruction, Executive Order 12938, consistent with section 204(c) of the International Emergency Economic Powers Act, 50 U.S.C. 1703(c), and section 401(c) of the National Emergencies Act, 50 U.S.C. 1641(c);

15. Report on Adherence to and Compliance With Arms Control Agreements and Nonproliferation Agreements and Commitments, consistent with section 403 of Public Law 87-297, as amended (22 U.S.C. 2593a);

16. Report on Chemical Weapons Convention Inspections, consistent with section 309 of the Chemical Weapons Convention Implementation Act of 1998 (22 U.S.C. 6728);

17. Report on U.S. Participation in the United Nations, consistent with section 4 of Public Law 79-264, as amended (22 U.S.C. 287b); and

18. Report on Russian Proliferation to Iran and Other Countries of Proliferation Concern, consistent with section 1206 of Public Law 107-314 (22 U.S.C. 5952 note).

(b) The Secretary of the Treasury shall submit the following reports:

1. Report on the National Emergency With Respect to Libya, Executive Order 12543, consistent with section 401(c) of the National Emergencies Act, 50 U.S.C. 1641(c), and section 204(c) of the International Emergency Economic Powers Act, 50 U.S.C. 1703(c);

2. Report on the National Emergency With Respect to the Western Balkans, Executive Order 13219, consistent with section 401(c) of the National Emergencies Act, 50 U.S.C. 1641(c), and section 204(c) of the International Emergency Economic Powers Act, 50 U.S.C. 1703(c);

3. Report on the National Emergency With Respect to the Risk of Nuclear Proliferation Relating to the Disposition of Highly Enriched Uranium Extracted from Nuclear Weapons of the Government of the Russian Federation, Executive Order 13159, consistent with section 401(c) of the National Emergencies Act, 50 U.S.C. 1641(c), and section 204(c) of the International Emergency Economic Powers Act, 50 U.S.C. 1703(c);

4. Report on the National Emergency With Respect to Burma, Executive Order 13047, consistent with section 401(c) of the National Emergencies Act, 50 U.S.C. 1641(c), and section 204(c) of the International Emergency Economic Powers Act, 50 U.S.C. 1703(c);

5. Report on the National Emergency With Respect to Middle East Terrorism, Executive Order 12947, consistent with section 401(c) of the National Emergencies Act, 50 U.S.C. 1641(c), and section 204(c) of the International Emergency Economic Powers Act, 50 U.S.C. 1703(c);

6. Report on the National Emergency With Respect to the 1979 Iranian Emergency and Assets Blocking, Executive Order 12170, consistent with section 401(c) of the National Emergencies Act, 50 U.S.C. 1641(c), and section 204(c) of the International Emergency Economic Powers Act, 50 U.S.C. 1703(c);

7. Report on the National Emergency With Respect to Iranian Petroleum Resources, Executive Order 12957, consistent with section 401(c) of the National Emergencies Act, 50 U.S.C. 1641(c), and section 204(c) of the International Emergency Economic Powers Act, 50 U.S.C. 1703(c);

8. Report on the National Emergency With Respect to Significant Narcotics Traffickers Centered in Colombia, Executive Order 12978, consistent with section 401(c) of the National Emergencies Act, 50 U.S.C. 1641(c), and section 204(c) of the International Emergency Economic Powers Act, 50 U.S.C. 1703(c);

9. Report on the National Emergency With Respect to Persons Who Commit, Threaten to Commit, or Support Terrorism, Executive Order 13224, consistent with section 401(c) of the National Emergencies Act, 50 U.S.C. 1641(c), and section 204(c) of the International Emergency Economic Powers Act, 50 U.S.C. 1703(c);

10. Report on the National Emergency With Respect to Sierra Leone and Liberia, Executive Order 13194, consistent with section 401(c) of the National Emergencies Act, 50 U.S.C. 1641(c), and section 204(c) of the International Emergency Economic Powers Act, 50 U.S.C. 1703(c);

11. Report on the National Emergency With Respect to Sudan, Executive Order 13067, consistent with section 401(c) of the National Emergencies Act, 50 U.S.C. 1641(c), and section 204(c) of the International Emergency Economic Powers Act, 50 U.S.C. 1703(c);

12. Report on the National Emergency With Respect to Iraq, Executive Order 12722, consistent with section 401(c) of the National Emergencies Act, 50 U.S.C. 1641(c), and section 204(c) of the International Emergency Economic Powers Act, 50 U.S.C. 1703(c);

13. Report on the National Emergency With Respect to the Development Fund for Iraq, Executive Order 13303, consistent with section 401(c) of the National Emergencies Act, 50 U.S.C. 1641(c), and section 204(c) of the International Emergency Economic Powers Act, 50 U.S.C. 1703(c);

14. Classified Report on the Status of Sanctions Imposed on Significant Foreign Narcotics Traffickers, consistent with section 804(d) of Public Law 106-120 (21 U.S.C. 1903(d));

15. Report on Telecommunications Payments Made to Cuba Pursuant to Department of the Treasury Specific Licenses, consistent with section 1705(e)(6) of Public Law 102-484, as amended by Public Law 104-114 (22 U.S.C. 6004(e)(6));

16. Report on the National Emergency With Respect to Persons Undermining Democratic Processes or Institutions in Zimbabwe, Executive Order 13288, consistent with section 401(c) of the National Emergencies Act, 50 U.S.C. 1641(c), and section 204(c) of the International Emergency Economic Powers Act, 50 U.S.C. 1703(c); and

17. Report on International Debt Relief, consistent with section 1000(a)(5) of Public Law 106-113.

(c) The Secretary of Defense shall submit the following reports:

1. Report on Kosovo Benchmarks, consistent with section 1212(c) of Public Law 106-398; and

2. Report on the National Emergency With Respect to Terrorist Attacks on the United States, Proclamation 7463 of September 14, 2001, consistent with section 401(c) of the National Emergencies Act, 50 U.S.C. 1641(c), and section 204(c) of the International Emergency Economic Powers Act, 50 U.S.C. 1703(c).

(d) The Secretary of Commerce shall submit the Report on the National Emergency Caused by the Lapse of the Export Administration Act of 1979, Executive Order 13222, consistent with section 401(c) of the National Emergencies Act, 50 U.S.C. 1641(c), and section 204(c) of the International Emergency Economic Powers Act, 50 U.S.C. 1703(c).

(e) The Director of Central Intelligence shall submit the following reports:

1. Report on Foreign Economic Collection and Industrial Espionage, consistent with section 809(b) of Public Law 103-359 (50 U.S.C. App. 2170(b)); and

2. Reports on Commerce With, and Assistance to, Cuba from Other Foreign Countries, consistent with section 108(a) of Public Law 104-114 (22 U.S.C. 6038(a)).

(f) The Director of National Drug Control Policy shall submit the Report on Support for Plan Colombia, consistent with section 3204(e) of Public Law 106-246.

Sec. 2. Reports to the Congress described in certain Senate resolutions shall be submitted as follows:

(a) The Secretary of State shall submit the following reports:

1. Report on the Inter-American Convention Against Corruption, consistent with the Resolution of Advice and Consent to Ratification of the Inter-American Convention Against Corruption adopted by the Senate on July 27, 2000;

2. Report on Compliance With the Treaty on Conventional Armed Forces in Europe, consistent with Condition 5(C) of the Resolution of Advice and Consent to Ratification of the Document Agreed Among the States Parties to the Treaty on Conventional Armed Forces in Europe of November 19, 1990;

3. Report on Chemical Weapons Convention Compliance, consistent with Condition 10(C) of the Resolution of Advice and Consent to the Chemical Weapons Convention adopted by the Senate on April 24, 1997; and

4. Report on Moscow Treaty Implementation, consistent with section 2(2) of the Resolution of Advice and Consent to Ratification of the Treaty on Strategic Offensive Reductions of May 24, 2002.

(b) The Secretary of Commerce shall submit the Report on the Status of the World Intellectual Property Organization Copyright Treaty and the Performance and Phonograms Treaty, consistent with the Senate's resolution of ratification of October 21, 1998.

(c) The Secretary of Defense shall submit the Report on Moscow Treaty Implementation, consistent with section 2(1) of the Resolution of Advice and Consent to Ratification of the Treaty on Strategic Offensive Reductions of May 24, 2002.

Sec. 3. In carrying out sections 1 and 2 of this order, officers of the United States shall ensure that all actions taken by them are consistent with the President's constitutional authority to: (a) conduct the foreign affairs of the United States; (b) withhold information the disclosure of which could impair the foreign relations, the national security, the deliberative processes of the Executive, or the performance of the Executive's constitutional duties; (c) recommend for congressional consideration such measures as the President may judge necessary and expedient; and (d) supervise the unitary executive branch.

Sec. 4. Nothing in this order shall be construed to impair or otherwise affect the functions of the Director of the Office of Management and Budget relating to budget, administrative, or legislative proposals.

Sec. 5. This order is intended only to improve the internal management of the executive branch and is not intended to, and does not, create any right or benefit, substantive or procedural, enforceable at law or in equity by a party against the United States, its departments, agencies, entities, officers, employees or agents, or any other person.

B

THE WHITE HOUSE,

July 31, 2003.

[FR Doc. 03-20013

Filed 8-4-03; 8:45 am]

Billing code 3195-01-P